DEPARTMENT OF COMMERCE

National Oceanic and Atmospheric Administration

[I.D. 092000A]

Advisory Committee to the U.S. Section of the International Commission for the Conservation of Atlantic Tunas (ICCAT); Fall Meeting

AGENCY: National Marine Fisheries Service (NMFS), National Oceanic and Atmospheric Administration (NOAA), Commerce.

ACTION: Notice of public meeting.

SUMMARY: In preparation for the 2000 ICCAT meeting, the Advisory Committee to the U.S. Section to ICCAT will hold its annual fall meeting in October 2000.

DATES: Open sessions will be held on October 29, 2000, from 12:15 p.m. to 6 p.m. and October 30, 2000, from 8:30 a.m. to 12 noon. Closed sessions will be held on October 30, 2000, from 2 p.m. to 6:30 p.m. and on October 31, 2000, from 8 a.m. to 1:30 p.m. Written comments should be received no later than October 25, 2000.

ADDRESSES: The meeting will be held at the NOAA Silver Spring Metro Center complex in Silver Spring, MD. The October 29 (public comment) session will be held at the NOAA Silver Spring Metro Center campus in conference room 4527 on the fourth floor of building 3 (1315 East-West Highway, Silver Spring, Maryland). The October 30 open session and both closed sessions of the Committee will be held in the Science Center in building 4 of the NOAA complex (1305 East-West Highly, Silver Spring, Maryland). Written comments should be sent to Kim Blankenbeker, Executive Secretary to the Advisory Committee, NOAA - Fisheries/SF4, 1315 East-West Highway, Silver Spring, MD 20910.

FOR FURTHER INFORMATION CONTACT: Patrick E. Moran, 301-713-2276.

SUPPLEMENTARY INFORMATION: The Advisory Committee to the U.S. Section to ICCAT will meet in two open sessions to consider information on stock status of highly migratory species and 2000 management recommendations of ICCAT’s Standing Committee on Research and Statistics (SCRS). Also in the open sessions, the Advisory Committee will review the results of recent meetings, including ICCAT’s working group meeting on allocation criteria, SCRS workshops, Advisory Committee regional meetings, and the Food and Agriculture Organization’s meeting concerning illegal, unregulated, and unreported fishing. The Committee will also discuss other ICCAT-related activities. Further, the Committee will review the implementation of 1999 and prior ICCAT recommendations and resolutions and will receive an overview of implementation of recommendations for research and management resulting from its Spring 2000 Species Working Group meeting. Both sessions will be open to the public. The only opportunity for public comment will be during the October 29, 2000, open session. Written comments are encouraged and, if mailed, should be received by October 25, 2000 (see ADDRESSES). Written comments can also be submitted during the open sessions of the Advisory Committee meeting.

The Advisory Committee will go into executive session on the afternoon of October 30, 2000, and for the entire October 31, 2000, session to discuss sensitive information relating to upcoming international negotiations. These sessions are not open to the public.

Please be reminded that NMFS expects members of the public to conduct themselves appropriately for the duration of the meeting. At the beginning of the public comment session, an explanation of the ground rules will be provided(e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Patrick E. Moran at (301) 713-2276 at least 7 days prior to the meeting date.

Dated: September 25, 2000.
Bruce C. Morehead,
Deputy Office Director, Office of Sustainable Fisheries, National Marine Fisheries Service.

[FR Doc. 00-25040 Filed 9-28-00; 8:45 am]

BILLING CODE 3510-22-S